NUCLEAR REGULATORY COMMISSION

[Docket No. 030-02981]

Notice of Availability of Environmental Assessment and Finding of No Significant Impact for License Amendment for Allegheny General Hospital's Facility at 3290 William Pitt Way in Pittsburgh, PA

AGENCY: Nuclear Regulatory Commission.

ACTION: Notice of availability.

FOR FURTHER INFORMATION CONTACT: Sandra Gabriel, Medical Branch, Division of Nuclear Materials Safety, Region I, 475 Allendale Road, King of Prussia, Pennsylvania 19406, telephone (610) 337-5182, fax (610) 337-5269; or by email: slg2@nrc.gov.

SUPPLEMENTARY INFORMATION:

I. Introduction

The Nuclear Regulatory Commission (NRC) is issuing a license amendment to Allegheny General Hospital for Materials License No. 37-01317-01, to authorize release of its facility at 3290 William Pitt Way in Pittsburgh, Pennsylvania, for unrestricted use. NRC has prepared an Environmental Assessment (EA) in support of this action in accordance with the requirements of 10 CFR Part 51. Based on the EA, the NRC has concluded that a Finding of No Significant Impact (FONSI) is appropriate. The amendment will be issued following the publication of this Notice.

II. EA Summary

The purpose of the action is to authorize the release of the licensee's facility at 3290 William Pitt Way in Pittsburgh, Pennsylvania, for unrestricted use. Allegheny General Hospital was authorized by NRC from March 31,1994, to use radioactive materials for research and development purposes at the site. In 1998, Allegheny General Hospital ceased operations with licensed materials at the 3290 William Pitt Way site, and on April 7, 2004, requested that NRC release the facility for unrestricted use. Allegheny General Hospital has conducted surveys of the facility and provided information to the NRC to demonstrate that the site meets the license termination criteria in Subpart E of 10 CFR Part 20 for unrestricted use.

The NRC staff has prepared an EA in support of the license amendment. The facility was remediated and surveyed prior to the licensee requesting the license amendment. The NRC staff has reviewed the information and final status survey submitted by Allegheny General Hospital. Based on its review, the staff has determined that there are no additional remediation activities necessary to complete the proposed action. Therefore, the staff considered the impact of the residual radioactivity at the facility and concluded that since the residual radioactivity meets the requirements in Subpart E of 10 CFR Part 20, a Finding of No Significant Impact is appropriate.

III. Finding of No Significant Impact

The staff has prepared the EA (summarized above) in support of the license amendment to release the facility at 3290 William Pitt Way in Pittsburgh, Pennsylvania for unrestricted use. The NRC staff has evaluated Allegheny General Hospital's request and the results of the surveys and has concluded that the completed action complies with the criteria in Subpart E of 10 CFR Part 20. On the basis of the EA, the NRC has concluded that the environmental impacts from the action are expected to be insignificant and has determined not to prepare an environmental impact statement for the action.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are: Environmental Assessment (ML050900146), letter dated April 7, 2004 with attached closeout survey results (ML042020449), letter dated September 29, 2004 (ML042750483), and electronic mail dated March 24, 2005 (ML050880370). Persons who do not have access to ADAMS or who encounter problems in accessing the documents located in ADAMS, should contact the NRC PDR Reference staff by telephone at (800) 397-4209 or (301) 415-4737, or by email to pdr@nrc.gov. These documents may also be examined, and/or copied for a fee, at the NRC PDR, located at One White Flint North, 11555 Rockville Pike (First Floor), Rockville, MD 20852. The PDR is open from 7:45 a.m. to 4:15 p.m., Monday through Friday, except on Federal Holidays; and at the Region I Office, 475 Allendale Road, King of Prussia, Pennsylvania 19406.

Dated at King of Prussia, Pennsylvania, this 10th day of May, 2005.
For the Nuclear Regulatory Commission.
Pamela J. Henderson,
Chief, Medical Branch, Division of Nuclear Materials Safety, Region I.

[FR Doc. E5-2508 Filed 5-18-05; 8:45 am]

BILLING CODE 7590-01-P